DEPARTMENT OF HEALTH AND HUMAN SERVICES

Centers for Disease Control and Prevention

[60Day-08-08BK]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 or send comments to Maryam I. Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Exploratory Research with People Living with Lung Cancer—New—Division of Cancer Prevention and Control, National Center for Chronic Disease Prevention and Health Promotion, Centers for Disease Control and Prevention (CDC).

Background and Brief Description

Lung cancer is the most common cancer and leading cause of cancer related mortality in the world. Each year, over 150,000 Americans are diagnosed with lung cancer and a similar number die from the disease. Due to the relatively low survival rate for individuals with lung cancer (the five-year survival rate of all patients with lung cancer is only 15%), the needs of individuals affected by lung cancer have received less attention in health care research than the needs of individuals with other types of cancer, resulting in a gap in knowledge about a significant number of people living with the diagnosis of lung cancer.

CDC proposes to conduct formative research to improve understanding of the challenges and needs of individuals living with lung cancer. Because smoking is one of the primary risk factors for lung cancer, the research will include respondents with different types of smoking history in order to explore the influence of smoking status on individual experience with cancer diagnosis, stigma and discrimination, and counseling and support services. For example, individuals who have never smoked may face challenges in obtaining an initial diagnosis of lung cancer, while current or former smokers may feel subject to judgments or blame from others, including medical providers as well as family and friends.

Information will be collected during in-depth interviews (IDIs) with 27 respondents between the ages of 30 and 80 who have been diagnosed with lung cancer. Three different types of respondents will be recruited from partnering clinical practices in two U.S. cities: Individuals who are Smokers (9), individuals who are Former Smokers (9), and individuals who Never Smoked (9). Each telephone interview will last approximately one hour.

The results of this exploratory research project will inform future research activities and the development of health-related information and services for the benefit of individuals living with lung cancer. Project goals support the goals for cancer and communication described in Healthy People 2010.

There are no costs to respondents other than their time.

Estimated Annualized Burden Hours
Type of respondents | Form name | Number of respondents | Number of responses per respondent | Average burden per response (in hours) | Total burden (in hours)
People Living with Lung Cancer | Contact Form | 108 | 1 | 5/60 | 9
| Screening Form | 81 | 1 | 10/60 | 14
| In-depth Interview Guide | 27 | 1 | 1 | 27
Total |  |  |  |  | 50

Marilyn S. Radke,
Reports Clearance Officer, Centers for Disease Control and Prevention.

[FR Doc. E8-17767 Filed 8-1-08; 8:45 am]

BILLING CODE 4163-18-P